DEPARTMENT OF ENERGY

Federal Energy Regulatory Commission

[Project Nos. 2149-068 and 2149-075 Washington]

Public Utility District No. 1 of Douglas County, WA; Notice of Availability of Final Environmental Assessment

October 27, 2006.

In accordance with the National Environmental Policy Act of 1969 and the Federal Energy Regulatory Commission's (Commission) regulations, 18 CFR Part 380 (Order No. 486, 52 FR 47897), the Office of Energy Projects has reviewed the application for amendment of license for a non-project use of project lands for the Wells Hydroelectric Project, located on the Upper Columbia River in Douglas, Okanogan, and Chelan Counties, Washington, and has prepared a Final Environmental Assessment (FEA) for the project.

The FEA contains the staff's analysis of the potential environmental impacts of the non-project use of project lands and concludes that approving the amendment, with appropriate environmental protective measures, would not constitute a major federal action that would significantly affect the quality of the human environment.

A copy of the FEA is available for review at the Commission in the Public Reference Room or may be viewed on the Commission's Web site at http://www.ferc.gov using the “eLibrary” link. Enter the docket number excluding the last three digits in the docket number field to access the document. For assistance, contact FERC Online Support at FERCOnlineSupport@ ferc.gov or toll-free at 1-866-208-3676, or for TTY, (202) 502-8659.

You may also register online at http://www.ferc.gov/docs-filing/esubscription.asp to be notified via e-mail of new filings and issuances related to this or other pending projects. For assistance, contact FERC Online Support.

For further information, contact Stephen Bowler at (202) 502-6861 or stephen.bowler@ferc.gov.

Magalie R. Salas,
Secretary.

[FR Doc. E6-18539 Filed 11-2-06; 8:45 am]

BILLING CODE 6717-01-P